DEPARTMENT OF HEALTH AND HUMAN SERVICES

Administration for Children and Families

[CFDA Number: 93.676]

Announcement of the Award of 48 Single-Source Low-Cost Extension Supplement Grants Within the Office of Refugee Resettlement's Unaccompanied Alien Children's (UAC) Program

AGENCY: Office of Refugee Resettlement (ORR), Administration for Children and Families (ACF), U.S. Department of Health and Human Services (HHS).

ACTION: Notice of Award of 48 single-source low-cost extension supplement grants under the Unaccompanied Alien Children's (UAC) Program.

SUMMARY: ACF, ORR, announces the award of 48 single source low-cost extension supplement grants for a total of $110,480,457 under the Unaccompanied Alien Children's (UAC) Program.

DATES: Low-cost extension supplement grants will support activities from October 1, 2016, through December 31, 2016, for 46 grantees and October 1, 2016, through March 31, 2017, for two grantees.

FOR FURTHER INFORMATION CONTACT: Jallyn Sualog, Director, Division of Unaccompanied Children's Operations, Office of Refugee Resettlement, 330 C Street SW., Washington, DC 20201. Email: DCSProgram@acf.hhs.gov. Phone: 202-401-4997.

SUPPLEMENTARY INFORMATION: The following supplement grants will support the immediate need for additional capacity of shelter services to accommodate the prior increase in number of UACs referred by DHS into ORR care. This increase in the UAC population necessitated the need for expansion of services to expedite the release of UAC. In order to be prepared for an increase in referrals for shelter services, ORR solicited proposals from grantees to accommodate the extensive amount of referrals from DHS.

Location | Grantee | Amount
U.S. Multi-City | BCFS Health and Human Services | $3,413,200
U.S. Multi-City | Southwest Key, Inc | 1,036,081
U.S. Multi-City | United States Conference of Catholic Bishops | 706,881
U.S. Multi-City | Crittenton | 298,324
| Children's Village | 286,202
U.S. Multi-City | MercyFirst | 122,186
U.S. Multi-City | United States Committee for Refugee and Immigrants | 1,575,161
U.S. Multi-City | His House, Inc | 69,214
U.S. Multi-City | Heartland | 330,046
U.S. Multi-City | Lutheran Immigration and Refugee Service | 804,135
Staunton, VA | Shenandoah | 980,112
Lincolndale, NY | Lincoln Hall | 3,800,000
San Antonio, TX | St. Peter-St. Joseph Children's Home | 1,704,925
Corpus Christi, TX | Upbring | 643,276
Chicago, IL | Heartland Human Care, Inc | 7,764,682
Chicago, IL | Heartland Human Care, Inc | 693,934
National | United Stated Conference of Catholic Bishops | 1,505,823
Mesa, AZ | A New Leaf | 736,736
La Verne, CA | David & Margaret | 1,539,365
Fullerton, CA | Florence Crittenton | 3,018,997
Manvel, TX | Shiloh | 1,273,395
Houston, TX | Catholic Charities Houston-Galveston | 1,670,956
Miami, FL | His House | 2,202,796
Corpus Christi, TX | Upbring | 3,134,996
U.S. Multi-City | BCFS Health and Human Services (102) | 24,469,448
National | Lutheran Immigration and Refugee Service | 4,303,231
Alexandria, VA | Juvenile Detention Commission for Northern Virginia | 631,569
Seattle, WA | Youth Care | 384,560
Portland, OR | Morrison Child and Family Services | 2,622,674
Phoenix, AZ | Tumbleweed Child and Family Services | 525,600
Philadelphia, PA | KidsPeace | 2,471,157
San Antonio, TX | BCFS Health and Human Services (110) | 479,610
San Antonio, TX | Seton Home | 804,614
Fairfield, CA | BCFS Health and Human Services (112) | 937,867
Bristow, VA | Youth for Tomorrow | 2,327,600
Bristow, VA | Youth for Tomorrow | 657,800
Woodland, CA | Yolo County | 699,306
Miami, FL | Catholic Charities Boystown | 1,312,947
San Antonio, TX | BCFS Health and Human Services (116) | 2,190,001
San Antonio, TX | BCFS Health and Human Services (116) | 864,000
Bronx, NY | Cardinal McCloskey | 439,392
Syosset, NY | Mercy First | 1,528,461
Kingston, NY | Children's Home of Kingston | 435,312
New York, NY | Lutheran Social Services of Metropolitan New York | 1,095,782
New York, NY | Cayuga Home for Children DBA Cayuga Centers | 5,404,388
New York, NY | Cayuga Home for Children DBA Cayuga Centers | 1,052,501
New York, NY | Catholic Guardian Services | 1,664,514
Yonkers, NY | Leake and Watts Services, Inc | 1,804,974
Yonkers, NY | Leake and Watts Services, Inc | 473,826
U.S. Multi-City | Southwest Keys, Inc | 10,257,820
U.S. Multi-City | Southwest Keys, Inc | 1,330,080

ORR is continuously monitoring its capacity to provide post-release services to the unaccompanied alien children in HHS custody. ORR has specific requirements for the provision of services. Award recipients must have the infrastructure, licensing, experience, and appropriate level of trained staff to meet those requirements. The expansion of the existing post-release services program through this supplemental award is a key strategy for ORR to be prepared to meet its responsibility of safe and timely release of Unaccompanied Alien Children referred to its care by DHS and so that the US Border Patrol can continue its vital national security mission to prevent illegal migration, trafficking, and protect the borders of the United States.

Statutory Authority: This program is authorized by—

(A) Section 462 of the Homeland Security Act of 2002, which in March 2003, transferred responsibility for the care and custody of Unaccompanied Alien Children from the Commissioner of the former Immigration and Naturalization Service (INS) to the Director of ORR of the Department of Health and Human Services (HHS).

(B) The Flores Settlement Agreement, Case No. CV85-4544RJK (C.D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996), pertinent regulations and ORR policies and procedures.

Elizabeth Leo,
Grants Policy Specialist, Division of Grants Policy, Office of Administration, Administration for Children and Families.

[FR Doc. 2017-11940 Filed 6-8-17; 8:45 am]

BILLING CODE 4184-45-P